DEPARTMENT OF THE INTERIOR

Bureau of Indian Affairs

[201A2100DD/AAKC001030/A0A501010.999900253G]

Indian Gaming; Approval of Tribal-State Class III Gaming Compact in the State of South Dakota

AGENCY: Bureau of Indian Affairs, Interior.

ACTION: Notice.

SUMMARY: This notice publishes the approval of the Gaming Compact (Compact) between the Standing Rock Sioux Tribe (Tribe) and the State of South Dakota (State).

DATES: The compact takes effect on August 19, 2020.

FOR FURTHER INFORMATION CONTACT: Ms. Paula L. Hart, Director, Office of Indian Gaming, Office of the Deputy Assistant Secretary—Policy and Economic Development, Washington, DC 20240, (202) 219-4066.

SUPPLEMENTARY INFORMATION: Under section 11 of the Indian Gaming Regulatory Act (IGRA), Public Law 100-497, 25 U.S.C. 2701 et seq., the Secretary of the Interior shall publish in the Federal Register notice of approved Tribal-State compacts for the purpose of engaging in Class III gaming activities on Indian lands. As required by 25 CFR 293.4, all compacts and amendments are subject to review and approval by the Secretary.

The Compact increases the number of slot machines the Tribe may operate, specifies one gaming location in Corson County, South Dakota, increases the maximum bet allowance, and specifies a rate for the Tribe to reimburse the State for its expenses incurred in performing its responsibilities under the compact. The Compact has a three-year duration that may renew for additional three-year terms upon written agreement of the parties. The Compact is approved.

Tara Sweeney,
Assistant Secretary—Indian Affairs.

[FR Doc. 2020-18080 Filed 8-18-20; 8:45 am]

BILLING CODE 4337-15-P